DEPARTMENT OF COMMERCE

National Oceanic and Atmospheric Administration

RIN 0648-XF692

Pacific Fishery Management Council; Public Meeting

AGENCY: National Marine Fisheries Service (NMFS), National Oceanic and Atmospheric Administration (NOAA), Commerce.

ACTION: Notice of a public meeting.

SUMMARY: The Pacific Fishery Management Council's (Pacific Council) Groundfish Management Team (GMT) will hold a week-long work session that is open to the public.

DATES: The GMT meeting will be held Monday, October 2, 2017, from 1 p.m. (Pacific Daylight Time) until business for the day is completed. The GMT meeting will reconvene Tuesday, October 3 through Thursday, October 5, 2017, from 8:30 a.m. until business for each day has been completed.

ADDRESSES: The meeting will be held at the Pacific Council, Large Conference Room, 7700 NE Ambassador Place, Suite 101, Portland, OR 97220-1384.

FOR FURTHER INFORMATION CONTACT: Ms. Kelly Ames, Pacific Council; phone: (503) 820-2426.

SUPPLEMENTARY INFORMATION: The primary purpose of the GMT meeting is to develop recommendations for consideration by the Pacific Council at its November 14-20, 2017 meeting in Costa Mesa, California. Specific agenda topics include the development of the 2019-2020 harvest specifications and management measures including rebuilding analyses. The GMT may also address other groundfish and administrative agenda items scheduled for the November Council meeting. A detailed agenda will be available on the Council's Web site prior to the meeting. No management actions will be decided by the GMT.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2411 at least 10 business days prior to the meeting date.

Dated: September 13, 2017.
Tracey L. Thompson,
Acting Deputy Director, Office of Sustainable Fisheries, National Marine Fisheries Service.

[FR Doc. 2017-19745 Filed 9-15-17; 8:45 am]

BILLING CODE 3510-22-P